FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[September 1, 2013 thru September 30, 2013]
09/03/2013
20131084 | G | Boston Scientific Corporation; C.R. Bard, Inc.; Boston Scientific Corporation.
20131136 | G | Cisco Systems, Inc.; Sourcefire, Inc.; Cisco Systems, Inc.
20131205 | G | David H. Murdock; Dole Food Company, Inc.; David H. Murdock.
20131211 | G | Ronald O. Perelman; Beauty Care Professional Products Participations, S.A.; Ronald O. Perelman.
20131212 | G | Rockwool International A/S; CMC Family Holdings LLC; Rockwool International A/S.
09/04/2013
20131227 | G | Pianissimo Holdings Corp.; Steinway Musical Instruments, Inc.; Pianissimo Holdings Corp.
09/05/2013
20131180 | G | Trian Partners Strategic Investment Fund, L.P.; E.I. du Pont de Nemours and Company; Trian Partners Strategic Investment Fund, L.P.
20131181 | G | Trian Partners Strategic Investment Fund II, L.P.; E.I. du Pont de Nemours and Company; Trian Partners Strategic Investment Fund II, L.P.
20131187 | G | CareGroup, Inc.; The Jordan Health Systems, Inc.; CareGroup, Inc.
20131223 | G | Parametric Sound Corporation; VTB Holdings, Inc.; Parametric Sound Corporation.
09/09/2013
20131225 | G | Jeffrey P. Bezos; The Washington Post Company; Jeffrey P. Bezos.
20131226 | G | Crestview Partners II (Outbound), L.P.; Sterling Group Partners III (AIV), L.P.; Crestview Partners II (Outbound), L.P.
20131229 | G | Allied Motion Technologies Inc.; Safran SA; Allied Motion Technologies Inc.
20131234 | G | Crystal T, LLC; Onex Partners II LP; Crystal T, LLC.
20131240 | G | ONEOK Partners, L.P.; Merit Energy Company, LLC; ONEOK Partners, L.P.
20131243 | G | CH Holding L.P.; Bend Research, Inc.; CH Holding L.P.
09/10/2013
20131238 | G | Francisco Partners III, L.P.; Austin Ventures VIII, L.P.; Francisco Partners III, L.P.
20131242 | G | Atlas Copco AB; Edwards Group Limited; Atlas Copco AB.
09/11/2013
20131192 | G | Actelion Ltd.; Ceptaris Therapeutics, Inc.; Actelion Ltd.
20131246 | G | loanDepot.com, LLC; imortgage.com, Inc.; loanDepot.com, LLC.
09/12/2013
20131197 | G | Perrigo Company; Elan Corporation, plc; Perrigo Company.
20131198 | G | Elan Corporation plc; Perrigo Company; Elan Corporation plc.
20131228 | G | KKR European Fund III, Limited Partnership; RigNet, Inc.; KKR European Fund III, Limited Partnership.
20131247 | G | Nabors Industries Ltd.; Richard W. Wurster; Nabors Industries Ltd.
20131248 | G | Nabors Industries Ltd.; Danny R. Shaffer; Nabors Industries Ltd.
09/13/2013
20130504 | G | Honeywell International Inc.; Intermec, Inc.; Honeywell International Inc.
20131206 | G | C.R. Bard, Inc.; Medafor, Inc.; C.R. Bard, Inc.
20131267 | G | John S. Chiorando; Personal Communications Devices Holdings LLC; John S. Chiorando.
09/16/2013
20131224 | G | Partners Limited; Entergy Corporation; Partners Limited.
20131262 | G | Sterling Group Partners III, L.P.; Century Park Capital Partners II, L.P.; Sterling Group Partners III, L.P.
09/18/2013
20131263 | G | Amgen Inc.; Onyx Pharmaceuticals, Inc.; Amgen Inc.
09/19/2013
20131254 | G | The Madison Square Garden Company; Azoff MSG Entertainment LLC; The Madison Square Garden Company.
09/20/2013
20131273 | G | Providence Equity Partners VII-A L.P.; Shamrock Capital Growth Fund III, L.P.; Providence Equity Partners VII-A L.P.
20131276 | G | MDCP VI-A Global Investments LP; Madison Dearborn Capital Partners VI-A, L.P.; MDCP VI-A Global Investments LP.
20131284 | G | 2349468 Ontario Limited; Ryan A. Busbice; 2349468 Ontario Limited.
20131285 | G | Morgan McCague; Ryan A. Busbice; Morgan McCague.
20131287 | G | Centerbridge Capital Partners II (Cayman), L.P.; GenNx360 Capital Partners, L.P.; Centerbridge Capital Partners II (Cayman), L.P.
20131288 | G | Magellan Health Services, Inc.; Mark V. Mertel and Miriam Mertel; Magellan Health Services, Inc.
09/23/2013
20131217 | G | Verizon Communications Inc.; Telephone and Data Systems, Inc. Voting Trust; Verizon Communications Inc.
09/24/2013
20131244 | G | Arrow Electronics, Inc.; CSS Computer Security Solutions Holding GmbH; Arrow Electronics, Inc.
20131259 | G | AstraZeneca PLC; Amplimmune, Inc.; AstraZeneca PLC.
20131271 | G | Cisco Systems, Inc.; Whiptail Technologies, Inc.; Cisco Systems, Inc.
20131279 | G | Calfrac Well Services Ltd.; Mission Investment Partners, LLC; Calfrac Well Services Ltd.
20131281 | G | Oasis Petroleum Inc.; Dawn Arnall; Oasis Petroleum Inc.
20131291 | G | Heico Corporation; Lucix Corporation; Heico Corporation.
20131295 | G | NM Mariposa Holdings, Inc.; Newton Holding, LLC; NM Mariposa Holdings, Inc.
09/25/2013
20131253 | G | Capital One Financial Corporation; Beech Street Capital Holdings, LLC; Capital One Financial.
20131280 | G | Corporation VEPF IV AIV VI, L.P.; QUALCOMM Incorporated; VEPF IV AIV VI, L.P.
09/27/2013
20130759 | G | Mylan Inc.; Strides Arcolab Limited; Mylan Inc.
20130959 | S | Actavis, Inc.; Warner Chilcott plc; Actavis, Inc.
20130960 | S | Warner Chilcott plc; Actavis, Inc.; Warner Chilcott plc.
20131255 | G | FR XII Charlie AIV, L.P.; Utility Services Associates, Inc.; FR XII Charlie AIV, L.P.
20131275 | G | LS Power Equity Partners II, L.P.; FirstEnergy Corp.; LS Power Equity Partners II, L.P.
20131299 | G | Koch Industries, Inc.; Molex Incorporated; Koch Industries, Inc.
20131306 | G | The Resolute Fund II, L.P.; Harbour Group Investments V, L.P.; The Resolute Fund II, L.P.
20131307 | G | Anthony C. and Alice C. Cibilich; The Resolute Fund II Maritime Partnership, L.P.; Anthony C. and Alice C. Cibilich.
20131308 | G | Twitter, Inc.; MoPub Inc.; Twitter, Inc.
20131309 | G | Aurora Resurgence Fund II L.P.; Aurora Resurgence Fund (C) L.P.; Aurora Resurgence Fund II L.P.
20131318 | G | Clayton, Dubilier & Rice Fund IX, L.P.; FR XI Offshore AIV, L.P.; Clayton, Dubilier & Rice Fund IX, L.P.
09/30/2013
20131174 | G | Centrica plc; Hess Corporation; Centrica plc.
20131264 | G | University of Maryland Medical System, Corp.; Upper Chesapeake Health System, Inc.; University of Maryland Medical System, Corp.
20131268 | G | Third Point Ultra, Ltd.; Sotheby's; Third Point Ultra, Ltd.
20131269 | G | Third Point Offshore Fund, Ltd.; Sotheby's; Third Point Offshore Fund, Ltd.
20131301 | G | The Resolute Fund II Maritime Partnership, L.P.; Abdon Callais Offshore, LLC; The Resolute Fund II Maritime Partnership, L.P.
20131303 | G | EnerSys; Purcell Systems, Inc.; EnerSys.
20131343 | G | Packaging Corporation of America; Boise Inc.; Packaging Corporation of America.

FOR FURTHER INFORMATION CONTACT: Renee Chapman, Contact Representative, or Theresa Kingsberry Legal, Assistant. Federal Trade Commission Premerger, Notification Office Bureau of Competition, Room H-303, Washington, DC 20580, (202) 326-3100.

By direction of the Commission.
Donald S. Clark,
Secretary.

[FR Doc. 2013-25710 Filed 10-30-13; 8:45 am]

BILLING CODE 6750-01-P